ENVIRONMENTAL PROTECTION AGENCY

[FRL-9909-21-OAR]

Notification of a Public Teleconference of the Chartered Clean Air Scientific Advisory Committee (CASAC) and the CASAC Ozone Review Panel

AGENCY: Environmental Protection Agency (EPA).

ACTION: Notice.

SUMMARY: The Environmental Protection Agency (EPA) Science Advisory Board (SAB) Staff Office announces a public teleconference of the Chartered CASAC and the CASAC Ozone Review Panel to provide additional time, if needed, for the CASAC and Panel to complete deliberations announced for their May 28, 2014 teleconference.

DATES: If additional time is needed following the May 28, 2014 teleconference, CASAC and the CASAC Panel will hold a teleconference on Monday, June 2, 2014 from 1:00 p.m. to 5:00 p.m. (Eastern Time).

Location: The public teleconference will be conducted by telephone only.

FOR FURTHER INFORMATION CONTACT: Any member of the public who wants further information concerning the public teleconference may contact Dr. Holly Stallworth, Designated Federal Officer (DFO), via telephone at (202) 564-2073 or email at stallworth.holly@epa.gov. General information concerning the CASAC can be found on the EPA Web site at http://www.epa.gov/casac.

SUPPLEMENTARY INFORMATION: The CASAC was established pursuant to the Clean Air Act (CAA) Amendments of 1977, codified at 42 U.S.C. 7409(d)(2), to review air quality criteria and NAAQS and recommend any new NAAQS and revisions of existing criteria and NAAQS as may be appropriate. The CASAC shall also provide advice, information, and recommendations to the Administrator on the scientific and technical aspects of issues related to the criteria for air quality standards, research related to air quality, sources of air pollution, and of adverse effects which may result from various strategies to attain and maintain air quality standards. The CASAC is a Federal Advisory Committee chartered under the Federal Advisory Committee Act (FACA), 5 U.S.C., App. 2. Section 109(d)(1) of the CAA requires that the Agency periodically review and revise, as appropriate, the air quality criteria and the NAAQS for the six “criteria” air pollutants, including ozone.

For purposes of the review of the ozone air quality criteria for health and welfare, the EPA established the CASAC Ozone National Ambient Air Quality Standards Review Panel. Pursuant to FACA and EPA policy, notice is hereby given that the Chartered CASAC augmented with additional experts, known as the CASAC Ozone Review Panel, will hold a public teleconference to provide additional time, if needed, for the CASAC and Panel to complete deliberations announced for their May 28, 2014 teleconference. As stated in the March 13, 2014 (79 FR 14246) Federal Register notice, the purpose of the May 28, 2014 teleconference is to review and finalize draft letters reviewing the three EPA draft documents cited in the March 13, 2014 notice. The EPA's draft documents were prepared as part of the agency's review of the National Ambient Air Quality Standards (NAAQS) for ozone. The CASAC and the Panel will comply with the provisions of FACA and all appropriate SAB Staff Office procedural policies.

Availability of Meeting Materials: There will be no additional meeting materials for the June 2, 2014 teleconference. It will be held only if additional time is needed following the May 28, 2014 teleconference. For the May 28, 2014 teleconference, CASAC's draft letters, agenda and other materials, including background materials from EPA, will be accessible through the calendar link on the blue navigation bar at http://www.epa.gov/casac/.

Procedures for Providing Public Input: The two teleconferences will be conducted as one complete meeting. As stated in the March 13, 2014 notice, public comments will be taken for the May 28, 2014 teleconference according to the procedures enumerated therein. The June 2, 2014 teleconference time is being reserved only if insufficient time is available on the May 28, 2014 teleconference.

Accessibility: For information on access or services for individuals with disabilities, please contact Dr. Holly Stallworth at (202) 564-2073 or stallworth.holly@epa.gov. To request accommodation of a disability, please contact Dr. Stallworth preferably at least ten days prior to the meeting to give EPA as much time as possible to process your request.

Dated: April 1, 2014.
Thomas H. Brennan,
Deputy Director, EPA Science Advisory Board Staff Office.

[FR Doc. 2014-07921 Filed 4-8-14; 8:45 am]

BILLING CODE 6560-50-P